DEPARTMENT OF THE INTERIOR

National Park Service

[2253-655]

Notice of Inventory Completion; U.S. Department of the Interior, National Park Service, Fort Vancouver National Historic Site, Vancouver, WA; Correction

AGENCY: National Park Service, Interior.

ACTION: Notice; correction.

Notice is here given in accordance with the Native American Graves Protection and Repatriation Act (NAGPRA), 25 U.S.C. 3003, of the completion of an inventory of human remains in the possession and control of the U.S. Department of the Interior, National Park Service, Fort Vancouver National Historic Site, Vancouver, WA. The human remains were removed from Clark County, WA.

This notice is published as part of the National Park Service's administrative responsibilities under NAGPRA, 25 U.S.C. 3003(d)(3). The determinations in this notice are the sole responsibility of the Superintendent, Fort Vancouver National Historic Site.

This notice corrects the minimum number of individuals for a Notice of Inventory Completion (NIC) previously published in the Federal Register (74 FR 24874-24875, May 26, 2009). A reassessment of the human remains by a physical anthropologist prior to disposition and reburial resulted in an increase in the number of individuals from 9 to 14 for one of the two sites described in the notice. There are no changes to the minimum number of two individuals for the other site listed in the previous NIC. Therefore, the total number of individuals in the previous NIC will be changed from 11 to 16.

Paragraph Number 4 in the NIC is Corrected by Substituting the Following Paragraph

In the 1950s, human remains representing a minimum of 14 individuals were removed from the I-5 corridor in Clark County, WA. The human remains were displaced by I-5 construction and donated to Fort Vancouver National Historic Site. No known individuals were identified. No associated funerary objects are present.

Paragraph Number 7 in the NIC is Corrected by Substituting the Following Paragraph

Officials of Fort Vancouver National Historic Site have determined, pursuant to 25 U.S.C. 3001(9), that the human remains described above represent the physical remains of 16 individuals of Native American ancestry. Officials of Fort Vancouver National Historic Site also have determined, pursuant to 25 U.S.C. 3001(2), that a relationship of shared group identity cannot reasonably be traced between the Native American human remains and any present-day Indian Tribe.

The Second Sentence of Paragraph Number 8 in the NIC is Corrected by Substituting the Following Sentence by Deleting the Reference to the Number of Individuals

In August 2008, Fort Vancouver National Historic Site requested that the Review Committee recommend disposition of the culturally unidentifiable human remains to the Vancouver Inter-Tribal Consortium on behalf of the following signatories: Clatsop-Nehalem Confederated Tribes; Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Snoqualmoo Tribe; Spokane Tribe of the Spokane Reservation, Washington; Stillaguamish Tribe of Washington; and Wanapum Band.

Disposition of the human remains to the Vancouver Inter-Tribal Consortium on behalf of the Clatsop-Nehalem Confederated Tribes; Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Snoqualmoo Tribe; Spokane Tribe of the Spokane Reservation, Washington; Stillaguamish Tribe of Washington; and Wanapum Band, occurred after the 30 day comment period expired for the original May 26, 2009, Notice of Inventory Completion.

Fort Vancouver National Historic Site is responsible for notifying the Confederated Tribes and Bands of the Yakama Nation, Washington; Confederated Tribes of the Chehalis Reservation, Washington; Confederated Tribes of the Grand Ronde Community of Oregon; Confederated Tribes of the Siletz Reservation, Oregon; Confederated Tribes of the Umatilla Indian Reservation, Oregon; Confederated Tribes of the Warm Springs Reservation of Oregon; Cowlitz Indian Tribe, Washington; Muckleshoot Indian Tribe of the Muckleshoot Reservation, Washington; Nisqually Indian Tribe of the Nisqually Reservation, Washington; Snoqualmie Tribe, Washington; Spokane Tribe of the Spokane Reservation, Washington; Stillaguamish Tribe of Washington; and three non-Federally recognized Indian groups—Clatsop-Nehalem Confederated Tribes, Snoqualmoo Tribe, and Wanapum Band, that this notice has been published.

Dated: June 9, 2011.
Sherry Hutt,
Manager, National NAGPRA Program.

[FR Doc. 2011-14772 Filed 6-14-11; 8:45 am]

BILLING CODE 4312-50-P